DEPARTMENT OF TRANSPORTATION

Coast Guard

33 CFR Part 151

[USCG-2000-7442]

RIN 2115-AD23

Permits for the Transportation of Municipal and Commercial Waste

AGENCY: Coast Guard, DOT.

ACTION: Notice of intent with request for comments.

SUMMARY: The Coast Guard is advising the public of its intent to finalize regulations previously published as an Interim Rule (IR) in the Federal Register (54 FR 22546) on May 24, 1989. These regulations have been codified at 33 CFR Part 151. The IR was published to implement the permitting and numbering requirements of the Shore Protection Act (SPA), but was never published as a Final Rule. Because of the lapse in time since the IR publication, the Coast Guard is seeking comments from the public before finalizing the IR.

DATES: Comments must be received on or before August 1, 2001.

ADDRESSES: You may submit your written comments and related material by one of the following methods:

(1) By mail to the Docket Management Facility, (USCG-2000-7442), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION CONTACT: For information concerning this reopened comment period, contact Ensign William Sportsman, Office of Operating & Environmental Standards (G-MSO-2), U.S. Coast Guard Headquarters, telephone 202-267-0226. For questions on viewing, or submitting material to the docket, contact Dorothy Beard, Chief, Dockets, Department of Transportation, telephone 202-366-5149.

SUPPLEMENTARY INFORMATION:

Request for Comments

The Coast Guard encourages you to participate in this rulemaking by submitting your comments and related material. To do so, please include your name and address, identify the docket number for this notice (USCG-2000-7442), indicate the specific section of the Interim Rule that you are commenting on, and give the reason for each comment. You may submit your written comments and material by mail, hand, fax, or electronic means to the Docket Management Facility at the address under ADDRESSES; but please do not submit the same comment or material by more than one means. Do not submit comments on the Interim Rule that have already been made part of the CGD 89-014 docket. If you submit them by mail or hand, submit them in an unbound format, no larger than 8½ by 11 inches, suitable for copying and electronic filing. If you submit them by mail and would like to know they were received, enclose a stamped, self-addressed postcard or envelope. The Coast Guard will consider all comments and material received during the comment period. All comments, including those previously submitted under the CGD 89-014 docket, may be viewed at http://dms.got.gov.

Background and Purpose

On May 24, 1989, the Coast Guard published in the Federal Register (54 FR 22546), an Interim Rule with request for comments (docket number CGD 89-014), implementing the permitting and numbering requirements of the Shore Protection Act (33 U.S.C. § 2601 et seq.). In response, the Coast Guard received six comments. After it was determined that the procedures outlined in the Interim Rule were operating successfully, the Coast Guard published a Notice of Withdrawal in the Federal Register (60 FR 64001) on December 13, 1995, to discontinue the rulemaking. The intent was to close the rulemaking project. However, due to an oversight, the Interim Rule was never finalized.

The Interim Rule has been in place for the past 11 years, and the Coast Guard believes these procedures have been operating in a satisfactory manner. Therefore, the Coast Guard intends to finalize the Interim Rule as published, and the first step in this process is to reopen the comment period for the Interim Rule.

Discussion of Comments and Changes

The Coast Guard received six letters commenting on the Interim Rule. In the following paragraphs, the Coast Guard discusses the comments received, and explains any changes made to the regulations. The Coast Guard first discusses general comments, and secondly discusses comments regarding specific sections of the regulations.

General Comments

One comment suggested that the rule require the same waste handling practices as stipulated in section 4103 of SPA. The comment also suggested the Coast Guard consider an operator's record of compliance with the required practices when deciding to approve or deny a permit.

The requirements for waste handling practices are outside the scope of this rulemaking. The Environmental Protection Agency (EPA) is responsible for implementing section 4103 of SPA.

One comment asked why the Interim Rule did not include regulations implementing sections 4104 through 4109 of SPA. This section of SPA concerns suspensions and revocations, enforcement, subpoena authority, and permit fees and penalties. The comment asked the Coast Guard to explain how it will implement these requirements.

As stated in the preamble to the Interim Rule, the Coast Guard will initiate two regulatory projects to implement the responsibilities delegated under SPA. This document finalizes the first regulatory project covering the issuing of permits and the numbering of vessels. Regulations implementing the other provisions of SPA may be proposed under a separate rulemaking in the future.

Comments Regarding Specific Sections

Applicability (§ 151.1003)

Three comments stated that numerous crew, work, supply, and service vessels engaged in support of oil or gas operations in the Outer Continental Shelf occasionally transport commercial waste and garbage. This waste is generated on offshore platforms and mobile offshore drilling units and is considered minor and incidental cargo. The comments stated that these vessels should be exempt from the requirements of the Interim Rule because they are not dedicated to nor designed for the transport of commercial waste. One of the comments also suggested that lightering and other small vessels should be exempt from the regulations because they transport plastics and other wastes ashore from vessels in port. These vessels are prohibited from discharging waste into the ocean under the International Convention for the Prevention of Pollution from Ships, 1973, as modified by the Protocol of 1978 (MARPOL 73/78, Annex V).

The Coast Guard agrees with these comments. This rule only applies to owners and operators of vessels whose primary purpose is the transportation of municipal or commercial waste. The Coast Guard recognizes that there are vessels that transport waste incidental to the primary purpose or business of the vessel. While the owners and operators of these vessels must take appropriate precautions to ensure that they do not deposit waste into the waters of the United States during transport, the Coast Guard does not intend for this rule to apply to these vessels. As stated in the Interim Rule, an owner or operator will only be required to hold a permit if the vessel is hired to transport municipal or commercial waste for a specific voyage or for a specific time. Therefore, the Coast Guard intends to make no revisions based on these comments.

Three comments opposed applying the Interim Rule to vessels carrying non-hazardous oil field waste. These vessels are required to obtain a Certificate of Inspection (COI), meet route and cargo restrictions, construction standards, and stability standards under rules promulgated in the Coast Guard's Navigation and Vessel Inspection Circular (NVIC) Number 7-87, “Guidance on Waterborne Transport of Oil Field Wastes.” The comments argued that vessels under the NVIC 7-87 already meet a higher degree of scrutiny than is mandated by SPA.

The Coast Guard agrees with these comments. To reduce the regulatory burden, vessels operating under the NVIC 7-87 program already meet regulatory standards similar to these regulations and are exempt from having to obtain a permit. Thus, vessels engaged in transporting non-hazardous oil field waste were never intended to be included in the application of the Interim Rule. This is evidenced by the fact that they were never specifically listed in 33 CFR 151.1003, Applicability, or 33 CFR 151.1006, Definitions.

Issuing or Denying the Issuance of a Conditional Permit (§ 151.1015)

The Coast Guard received four comments regarding the permit issuance procedures and policies. Two comments wanted the Officer in Charge, Marine Inspection (OCMI) or the Captain of the Port (COTP) where the vessel will operate to participate in the issuance procedures. One comment stated that it would be appropriate and convenient for the OCMI or COTP to approve (or deny) the application. The comment noted that the OCMI or COTP “will surely be involved in verifying information, investigating complaints, and monitoring compliance in any case.” Another comment suggested that the Coast Guard send a copy of the issued permit to the OCMI or COTP.

The Coast Guard does not agree with these comments. It will be more efficient to issue the permits from a central location because vessels subject to these regulations may operate in more than one COTP or OCMI zone of responsibility. The owner or operator is required to maintain the permit onboard the vessel. Therefore, a copy of the permit will be available for the COTP or OCMI to examine whenever necessary. The Coast Guard will not make any changes to § 151.1015 based on these comments.

For vessels requiring a COI, one comment suggested the Coast Guard withhold issuance of a permit if the COI is invalid.

The Coast Guard does not agree with this comment. Vessels holding a COI are currently inspected on regularly scheduled intervals. If the COI is invalid, the vessel is not expected to be operating on the navigable waters of the United States.

Another comment requested that the Coast Guard include a statement in § 151.1015(b)(2)(ii)(A) that clarifies that if there is a change of vessel operator or owner, the permit is no longer valid. In the Interim Rule, § 151.1015(b)(2)(ii)(A) states that a permit will only be terminated if the vessel is sold or if subpart B no longer applies to the vessel.

The Coast Guard does not agree with this comment. We believe the current language of the Interim Rule is sufficient to enable compliance.

Two comments stated that although § 151.1015 details the denial of a permit, it unnecessarily focuses on completeness and accuracy of the forms instead of substantive information such as the history of the operator or the condition of the vessel.

The Coast Guard understands that permit applicants can be frustrated with the level of accuracy required in the forms; however, this information is a necessary step in ensuring that permit applicants are capable of meeting the requirements for a permit.

Withdrawal of a Conditional Permit (§ 151.1018)

Three comments questioned whether § 151.1018 is consistent with SPA. SPA allows the Coast Guard to issue or deny a permit after consulting with the EPA. However, the Interim Rule does not include the consultation with EPA before issuance of a permit. SPA also allows the Coast Guard to deny a permit if the owner or operator of the vessel has a pattern of serious violations. However, the Interim Rule only allows the Coast Guard to withdraw a permit at the request of EPA. The comments stated that SPA gives the Coast Guard the authority to withdraw a permit, but the Coast Guard has excluded its own authority in the Interim Rule.

The Coast Guard implemented the application procedures in the Interim Rule to eliminate unnecessary delays for vessel owner/operators seeking to continue an ongoing business. Conversely, the Coast Guard wanted to ensure that any decision to revoke a permit was substantiated by an agency that could act as a neutral agent.

One comment stated that it believes that the Coast Guard would initiate withdrawal of a permit for various reasons, such as improper vessel conditions. The comment asked the Coast Guard to include provisions for these withdrawals and cite the penalty provisions for a violation of §§ 151.1009 and 151.1018(c) in the Interim Rule.

The Interim Rule listed conditions that would lead to the withdrawal of a permit, citing a record or pattern of violations of five environmental protection acts. Permit withdrawal proceedings would be restricted to the conditions authorized by the act. Civil and criminal penalties for violations of the Shore Protection Act are outlined in 33 USC § 2608 and § 2609.

Display of Number (§ 151.1024)

Two comments objected to the requirement that vessel numbers displayed have to be at least 44 centimeters (18 inches) in height. One comment noted that the requirement for marking a tank vessel (found in 46 CFR 32.05-10 and 32.05-15) allows a vessel to be marked with figures that are 15 centimeters (6 inches) high.

The Coast Guard disagrees with these comments. Personnel involved with enforcement of these regulations must be able to easily identify a vessel's permit numbers from great distances or altitudes including while a vessel is at sea. Because of this, permit numbers need to be easily distinguishable from other markings displayed on a vessel.

One comment noted that there is an incorrect section citation in the Interim Rule. Paragraph (b) of § 151.1009 references § 151.104, which does not exist. The correct reference is § 151.1024, pertaining to permit numbers. The Coast Guard amended § 151.1009(b) to reflect the correct reference in a correction notice published in the Federal Register on June 5, 1989 (54 FR 24078).

Dated: March 16, 2001.
Joseph J. Angelo,
Director of Standards, Acting Assistant Commandant for Marine Safety and Environmental Protection.

[FR Doc. 01-10970 Filed 5-2-01; 8:45 am]

BILLING CODE 4910-15-P